DEPARTMENT OF STATE

[Public Notice 4355]

Notice of Meeting; United States International Telecommunication Advisory Committee; Preparations for ITU Development Meetings

The Department of State announces meetings of the U.S. International Telecommunication Advisory Committee (ITAC). The purpose of the Committee is to advise the Department on policy, technical and operational issues with respect to international telecommunications development bodies such as the International Telecommunication Union.

The ITAC will meet to prepare for the September 2-11 meeting of the ITU-D, Study Groups 1 and 2, Geneva, Switzerland. Schedule meeting date is Tuesday August 5, 10am-1200 noon at the Department of State in Room 2533-A.

Members of the public will be admitted to the extent that seating is available, and may join in the discussions, subject to the instructions of the Chair. Entrance to the Department of State is controlled. People intending to attend the meeting should send their clearance data by fax to (202) 647-7407 or email to worsleydm@state.gov not later than 24 hours before the meeting. Please include the name of the meeting, your name, social security number, date of birth and organizational affiliation. One of the following valid photo identifications will be required for admittance: U.S. driver's license with your picture on it, U.S. passport, or U.S. Government identification. Directions to the meeting location and on which entrance to use may be determined by calling the ITAC Secretariat at 202 647-2592 or e-mail to worsleydm@state.gov.

Dated: July 15, 2003.
Doreen McGirr,
Director, Telecommunication Development, Department of State.

[FR Doc. 03-18622 Filed 7-21-03; 8:45 am]

BILLING CODE 4710-45-P